NUCLEAR REGULATORY COMMISSION

Advisory Committee on Reactor Safeguards Subcommittee Meeting on Power Uprates; Notice of Meeting

The ACRS Subcommittee on Power Uprates will hold a meeting on March 15-16, 2006, at the Hyatt Regency Bethesda, One Bethesda Metro Center, Bethesda, Maryland 20814 in the Cabinet/Judiciary Room.

The agenda for the subject meeting shall be as follows:

Wednesday, March 15, 2006—8:30 a.m. until the conclusion of business.

Thursday, March 16, 2006—8:30 a.m. until the conclusion of business.

The Subcommittee will review the application for a 17% power uprate for the R. E. Ginna Nuclear Power Plant. The Subcommittee will hear presentations by and hold discussions with representatives of the NRC staff, their contractors, Constellation Energy and other interested persons regarding this matter. The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted. Signs will not be permitted in the meeting room.

Further information regarding this meeting can be obtained by contacting the Designated Federal Official between 7:30 a.m. and 4:15 p.m. (e.t). Persons planning to attend this meeting are urged to contact the above named individual at least two working days prior to the meeting to be advised of any potential changes to the agenda.

Dated: February 24, 2006.
Cayetano Santos,
Acting Branch Chief, ACRS/ACNW.

[FR Doc. E6-3039 Filed 3-2-06; 8:45 am]

BILLING CODE 7590-01-P